INTERNATIONAL TRADE COMMISSION

[Investigation No. 337-TA-900]

Certain Navigation Products, Including GPS Devices, Navigation and Display Systems, Radar Systems, Navigational Aids, Mapping Systems and Related Software; Commission Determination Not To Review an Initial Determination Granting Complainants' Motion To Partially Terminate the Investigation as To Certain Claims and for Leave To Amend the Complaint and Notice of Investigation

AGENCY: U.S. International Trade Commission.

ACTION: Notice.

SUMMARY: Notice is hereby given that the U.S. International Trade Commission has determined not to review an initial determination (“ID”) (Order No. 12) of the presiding administrative law judge (“ALJ”) granting an unopposed motion (1) to partially terminate the investigation as to claims 1-3, 11, 12, 14, 16, 17, and 19 of United States Patent No. 6,084,565 (“the '565 patent”) and (2) for leave to amend the complaint and notice of investigation to remove references to the canceled claims and certain accused products.

FOR FURTHER INFORMATION CONTACT: Panyin A. Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted Inv. No. 337-TA-900 on November 15, 2013, based on a complaint filed by Furuno Electric Co., Ltd. of Hyogo, Japan and Furuno U.S.A., Inc. of Camas, Washington (“Furuno”). 78 FR 68861-62 (Nov. 15, 2013). The complaint alleged violations of section 337 of the Tariff Act of 1930, as amended, (19 U.S.C. 1337) in the importation into the United States, the sale for importation, and the sale within the United States after importation of certain navigation products, including GPS devices, navigation and display systems, radar systems, navigational aids, mapping systems and related software by reason of infringement of the '565 patent and United States Patent Nos. 6,424,292; 7,161,561; and 7,768,447. The complaint named several respondents.

On January 31, 2014, Furuno moved, unopposed, (1) to terminate the investigation as to claims 1-3, 11, 12, 14, 16, 17, and 19 of the '565 patent; and (2) for leave to amend the complaint to remove references to the canceled claims and the accused automotive and avionic products. On February 12, 2014, the Commission investigative attorney filed a response in support of the motion.

On March 10, 2014, the ALJ issued the subject ID, granting the unopposed motion. The ALJ indicated compliance with the requirements of Commission Rule 210.21(a) (19 CFR 210.21(a)) and that no extraordinary circumstances prohibited granting the motion. Regarding amending the complaint and notice of investigation, the ALJ, pursuant to Commission Rule 210.14(b) (19 CFR 210.14(b)), indicated good cause existed to amend the complaint and notice of investigation, finding “it will streamline the investigation and there is no evidence that public interest and rights of the parties will be prejudiced. . . .” None of the parties petitioned for review of the ID.

The Commission has determined not to review the ID.

The authority for the Commission's determination is contained in section 337 of the Tariff Act of 1930, as amended (19 U.S.C. 1337), and in part 210 of the Commission's Rules of Practice and Procedure (19 CFR part 210).

Issued: April 9, 2014.
By order of the Commission.
Lisa R. Barton,
Acting Secretary to the Commission.

[FR Doc. 2014-08321 Filed 4-11-14; 8:45 am]

BILLING CODE 7020-02-P